DEPARTMENT OF COMMERCE

International Trade Administration

[A-549-502]

Circular Welded Carbon Steel Pipes and Tubes From Thailand: Final Results of Antidumping Duty Administrative Review; 2013-2014

AGENCY: Enforcement and Compliance, International Trade Administration, U.S. Department of Commerce.

SUMMARY: On April 6, 2015, the Department of Commerce (Department) published its preliminary results of the administrative review of the antidumping duty order on circular welded carbon steel pipes and tubes from Thailand covering the period of review (POR) March 1, 2013, through February 28, 2014.¹ This review covers two producers and/or exporters of the subject merchandise, Saba Thai Steel Pipe (Public) Company, Ltd. (Saba Thai), and Pacific Pipe Company Limited (Pacific Pipe). For the final results, we continue to find that Saha Thai and Pacific Pipe did not sell subject merchandise to the United States at below normal value during the POR. The final results are listed in the section entitled “Final Results of Review” below.

¹ See Circular Welded Carbon Steel Pipes and Tubes From Thailand: Preliminary Results of Antidumping Duty Administrative Review; 2013-2014, 80 FR 18354 (April 6, 2015) (Preliminary Results).

DATES: Effective date: October 2, 2015

FOR FURTHER INFORMATION CONTACT: Nicholas Czajkowski at (202) 482-1395; AD/CVD Operations, Office VII, Enforcement and Compliance, International Trade Administration, U.S. Department of Commerce, 14th Street and Constitution Avenue NW., Washington, DC 20230.

SUPPLEMENTARY INFORMATION:

Background

On August 12, 2015, we invited parties to comment on the Preliminary Results. Saha Thai submitted a case brief on August 20, 2015. No other parties submitted case briefs or rebuttal briefs for this proceeding.

The Department conducted this administrative review in accordance with section 751(a) of the Tariff Act of 1930, as amended (the Act).

Scope of the Order

The products covered by the antidumping order are certain circular welded carbon steel pipes and tubes from Thailand. The subject merchandise has an outside diameter of 0.375 inches or more, but not exceeding 16 inches. These products, which are commonly referred to in the industry as “standard pipe” or “structural tubing” are hereinafter designated as “pipes and tubes.” The merchandise is classifiable under the Harmonized Tariff Schedule of the United States (HTSUS) item numbers 7306.30.1000, 7306.30.5025, 7306.30.5032, 7306.30.5040, 7306.30.5055, 7306.30.5085 and 7306.30.5090. Although the HTSUS subheadings are provided for convenience and purposes of U.S. Customs and Border Protection (CBP), the written description of the merchandise subject to the order is dispositive.

Analysis of Comments Received

We have analyzed the comments submitted by Saha Thai. In its case brief, Saha Thai made several arguments objecting to the Department's differential pricing analysis. The Department has used the standard A-to-A method to calculate Saha Thai's weighted-average dumping margin (unchanged from the Preliminary Results).² Therefore, it is not necessary to address the comments raised by Saha Thai in a separate Issues and Decision Memorandum.

² See Memorandum to the File, “Antidumping Duty Administrative Review of Circular Welded Carbon Steel Pipes and Tubes From Thailand: Saha Thai Steel Pipe (Public) Company, Ltd. Preliminary Analysis Memorandum” (March 31, 2015) at page 2.

Changes Since the Preliminary Results

We made changes to Pacific Pipe's calculation for the final results. Specifically, we (1) used updated sales and cost of production databases, (2) adjusted the home market sales cost of production databases based on minor corrections at verification, (3) revised Pacific Pipe's reported per-unit costs to correspond to the reported total cost of manufacturing of the merchandise under consideration, and (4) revised Pacific Pipe's general and administrative expense rate.³ We made no changes to Saha Thai's calculations.

³ See Memorandum to the File, “Antidumping Duty Administrative Review of Circular Welded Carbon Steel Pipes and Tubes from Thailand: Saha Thai Steel Pipe (Public) Company, Ltd. Final Analysis Memorandum” dated concurrently with this notice; see also Memorandum to Neal M. Halper, Director, Office of Accounting, “Antidumping Duty Administrative Review of Circular Welded Carbon Steel Pipes & Tubes From Thailand, Cost of Production and Constructed Value Calculation Adjustments for the Final Results—Pacific Pipe Public Company Limited” dated concurrently with this notice.

Final Results of Review

The final weighted-average dumping margins for the period March 1, 2013, through February 28, 2014, are as follows:

Producer/Exporter | Weighted- average dumping margin (percent)
Saha Thai Steel Pipe (Public) Company, Ltd | 0.00
Pacific Pipe Company Limited | 0.00

Assessment Rates

In accordance with 19 CFR 351.106(c)(2) and the Final Modification for Reviews,⁴ the Department will instruct CBP to liquidate appropriate entries for Saha Thai and Pacific Pipe without regard to antidumping duties.

⁴ See Antidumping Proceedings: Calculation of the Weighted-Average Dumping Margin and Assessment Rate in Certain Antidumping Proceedings: Final Modification, 77 FR 8101, 8102 (February 14, 2012) (Final Modification for Reviews).

The Department clarified its “automatic assessment” regulation on May 6, 2003.⁵ This clarification applies to entries of subject merchandise during the POR produced by Saha Thai and Pacific Pipe for which it did not know its merchandise was destined for the United States. In such instances, we will instruct CBP to liquidate unreviewed entries at the all-others rate if there is no rate for the intermediate company(ies) involved in the transaction.

⁵ For a full discussion of this clarification, see Antidumping and Countervailing Duty Proceedings: Assessment of Antidumping Duties, 68 FR 23954 (May 6, 2003) (Assessment Policy Notice).

We intend to issue instructions to CBP 15 days after publication of the final results of this review.

Cash Deposit Requirements

The following cash deposit requirements will be effective upon publication of the notice of final results of administrative review for all shipments of circular welded carbon steel pipes and tubes from Thailand entered, or withdrawn from warehouse, for consumption on or after the date of publication as provided by section 751(a)(2) of the Act: (1) The cash deposit rate for Saha Thai and Pacific Pipe will be 0.00 percent, the weighted-average dumping margin established in the final results of this administrative review; (2) for previously reviewed or investigated companies not listed above, the cash deposit rate will continue to be the company-specific rate published for the most recently completed segment of this proceeding; (3) if the exporter is not a firm covered in this review, a prior review, or the less than fair value (LTFV) investigation, but the manufacturer is, then the cash deposit rate will be the rate established for the most recently completed segment of this proceeding for the manufacturer of the merchandise; and (4) if neither the exporter nor the manufacturer is a firm covered in this or any previous review or the LTFV investigation, then the cash deposit rate will be the “all-others” rate of 15.67 percent established in the LTFV investigation.⁶ These deposit rates, when imposed, shall remain in effect until further notice.

⁶ See Antidumping Duty Order: Circular Welded Carbon Steel Pipes and Tubes from Thailand, 51 FR 8341 (March 11, 1986).

Notifications

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

The Department is issuing and publishing these final results of administrative review in accordance with sections 751(a)(1) and 777(i)(1) of the Act.

Dated: September 25, 2015.
Paul Piquado,
Assistant Secretary for Enforcement and Compliance.

[FR Doc. 2015-25168 Filed 10-1-15; 8:45 am]

BILLING CODE 3510-DS-P